DEPARTMENT OF HEALTH AND HUMAN SERVICES

Centers for Disease Control and Prevention

[Program Announcement 04126]

Vital Statistics Re-engineering Program; Notice of Intent To Fund Single Eligibility Award

A. Purpose

The Centers for Disease Control and Prevention (CDC) announces the intent to fund fiscal year (FY) 2004 funds for a cooperative agreement program to enhance the ability of state-owned vital statistics systems to provide timely and high quality information to the National Vital Statistics System based on the newly-approved U.S. Standard Certificate for Birth and Death and the Report of Fetal Death. The Catalog of Federal Domestic Assistance number for this program is 93.066.

B. Eligible Applicant

Assistance will be provided only to a public or private non-profit organization whose primary mission is the support of state vital statistics and vital records programs. The National Vital Statistics System (NVSS) is one component of NCHS's health data collection program.

NCHS operates this System to fulfill its legislatively mandated mission to produce national vital statistics based on data from the nation's birth and death records. The NVSS is a cooperative, decentralized system in which data from over 6 million vital event records are collected each year by all states and U.S. territories and transmitted to the NCHS for processing and analysis. These records are state-owned and are provided through state-owned and operated registration systems. No federal constitutional mandate or law exits requiring states to collect and/or report birth and death information to NCHS.

Consequently, the collection of registration-based vital statistics at the national level depends on a cooperative relationship between states and the federal government. Since 1933, NAPHSIS and its predecessor organizations have collectively represented the states on policy and other agreements with the federal government. It is a professional, non-profit organization whose members include primarily, but not exclusively, the vital statistics registration executives and other employees of state registration offices. In addition to providing the states and territories with a common point of contact with the federal government, NAPHSIS also facilitates inter-state exchange of ideas, methods, and technology for the registration of vital events and dissemination of vital and other public health statistics. Since the inception of the NVSS Program, NAPHSIS has been the only national group whose decisions fully reflect the views of the state vital records offices and, accordingly, the state vital records office, generally adhere to NAPHSIS' policy and program decisions. As further evidence of its unique role with state vital statistics offices, NAPHSIS negotiates with NCHS on behalf of the states about the deliverables, schedule, quality, and other aspects of data provided for the NVSS. NAPHSIS is one of the affiliates of the Association of State and Territorial Health Organization.

Over the past two years, NCHS has jointly worked with NAPHSIS to develop national, model standards and guidelines for how states may best re-engineer their vital records systems to meet state and federal needs. Those standards and guidelines will be available in early 2004, when the task shifts to motivating each state and territory to implement standards-based systems. The implementation of re-engineered systems in all states is a top priority of NCHS. Accomplishing this goal will: (1) Significantly increase the ability of the NVSS to be responsive to emerging public health needs and user demands; (2) result in more timely and higher quality data that better describe the population by enabling a faster and more efficient transfer of data as well as enhanced data integration among federal, state, and local entities; and (3) permit the various vital registration jurisdictions to implement the recently-approved U.S. Standard Certificates of Birth and Death, and Report of Fetal Death, thus providing the means to collect the most meaningful and uniform health information related to births and deaths. NCHS” ability to produce a national vital statistics dataset is dependent on all states fully reengineering their data collection systems and implementing the revised certificates and report. Because vital statistics is a decentralized, state-based system, we believe that the best and only effective strategy for convincing all states is by working through their own association, which is NAPHSIS.

NAPHSIS has a history of working collaboratively with NCHS and the other CIOs within CDC on vital statistics related initiatives. Some of these initiatives include:

• The NVSS contract and policy negotiations on deliverables/schedules/quality from state-owned vital statistics systems with CDC/NCHS

• The National Death Index Program with CDC/NCHS

• The “Improve State and Local Health Information Systems” cooperative agreement with CDC/EPO

• The Newborn Hearing Screening Project with CDC Center for Birth Defects and Developmental Disabilities

• The National Electronic Disease Surveillance Project with CDC-NEDSS Program

This project has a relationship with two prior or ongoing CDC-funded activities. First, this project focuses on the development of detailed systems (or non-functional) requirements for a model vital statistics system, which is Phase II of the Re-engineering Project. In Phase I, NAPHSIS was an active partner in the development of the functional requirements for the model system. Second, this project is related to the PHIN Project (previously NEDSS) currently underway in CDC. This project will be exploring the use of the PHIN messaging system with re-engineered vital statistics system, and will be developing guidelines on PHIN-compatible re-engineered vital statistics systems.

C. Funding

Approximately $171,500 is available in FY 2004 to fund this award. It is expected that the award will begin on or before June 2004, and will be made for a 12-month budget period within a project period of up to three years. Funding estimates may change.

D. Where To Obtain Additional Information

For general comments or questions about this announcement, contact:

Technical Information Management, CDC Procurement and Grants Office, 2920 Brandywine Road, Atlanta, GA 30341-4146, Telephone: 770-488-2700.

For technical questions about this program, contact: Charles Rothwell, Project Officer, National Center for Health Statistics, Division of Vital Statistics, Room 7311, 3311 Toledo Road, Hyattsville, Maryland 20782, Telephone: 301-458-4468, E-mail: cjr4@cdc.gov.

Dated: May 11, 2004.
Wiliam P. Nichols,
Acting Director, Procurement and Grants Office, Centers for Disease Control, and Prevention.

[FR Doc. 04-11078 Filed 5-14-04; 8:45 am]

BILLING CODE 4163-18-P